DEPARTMENT OF COMMERCE

International Trade Administration

[A-580-903, A-201-852, A-523-813]

Polyethylene Terephthalate Sheet From the Republic of Korea, Mexico, and the Sultanate of Oman: Initiation of Less-Than-Fair-Value Investigations

AGENCY: Enforcement and Compliance, International Trade Administration, Department of Commerce.

DATES: Applicable August 19, 2019.

FOR FURTHER INFORMATION CONTACT: Susan Pulongbarit or Charles Doss, AD/CVD Operations, Office V, Enforcement and Compliance, International Trade Administration, U.S. Department of Commerce, 1401 Constitution Avenue NW, Washington, DC 20230; telephone: (202) 482-4031 or (202) 482-4474, respectively.

SUPPLEMENTARY INFORMATION:

The Petitions

On July 9, 2019, the U.S. Department of Commerce (Commerce) received antidumping duty (AD) petitions concerning imports of polyethylene terephthalate sheet (PET sheet) from the Republic of Korea (Korea), Mexico, and the Sultanate of Oman (Oman).¹ The Petitions were filed in proper form by Advanced Extrusion Inc. (Advanced Extrusion), Ex-Tech Plastics, Inc. (Ex-Tech), and Multi-Plastics Extrusions, Inc. (Multi-Plastics) (collectively, the petitioners).

¹ See Petitioner's Letter, “Polyethylene Terephthalate (“PET”) Sheet from the Republic of Korea, Mexico, and the Sultanate of Oman—Petitions for the Imposition of Antidumping Duties,” dated July 9, 2019 (the Petitions).

Between July 12 through July 22, Commerce requested supplemental information pertaining to certain aspects of the Petitions in separate supplemental questionnaires.² The petitioners filed responses to the supplemental questionnaires between July 17 and July 23, 2019.³

² See Commerce's Letters, “Petition for the Imposition of Antidumping Duties on Imports of Polyethylene Terephthalate Sheet from Mexico: Supplemental Questions;” “Petition for the Imposition of Antidumping Duties on Imports of Polyethylene Terephthalate Sheet from the Republic of Korea: Supplemental Questions;” and “Petition for the Imposition of Antidumping Duties on Imports of Polyethylene Terephthalate Sheet from the Sultanate of Oman: Supplemental Questions.” All of these documents are dated July 12, 2019; see also Commerce's Letter, “Petitions for the Imposition of Antidumping Duties on Imports of Polyethylene Terephthalate Sheet from the People's Republic of Korea, Mexico, and the Sultanate of Oman: Supplemental Questions,” dated July 15, 2019; Commerce Letters, “Phone Call with Counsel to the Petitioners,” dated July 22, 2019, and “Phone Call with Counsel to the Petitioners,” dated July 22, 2019.

³ See Petitioner's Letter, “Polyethylene Terephthalate Sheet from the Republic of Korea, Mexico, and the Sultanate of Oman—Petitioners' Supplement to Volume I Relating to General Issues,” dated July 17, 2019 (General Issues Supplement); see also the Petitioner's Letters, “Polyethylene Terephthalate Sheet from the Republic of Korea—Petitioners' Supplement to Volume II Relating to the Republic of Korea Antidumping Duties;” “Polyethylene Terephthalate Sheet from Mexico—Petitioners' Supplement to Volume III Relating to Mexico Antidumping Duties;” and “Polyethylene Terephthalate Sheet from Oman—Petitioners' Supplement to Volume IV Relating to Oman Antidumping Duties.” All of these documents are dated July 17, 2019; see also the petitioners' Letters, “Polyethylene Terephthalate Sheet from Korea, Mexico, and Oman—Petitioners' Response to the Commerce Department's July 22, 2019 File Memorandum,” dated July 23, 2019 (Second General Issues Supplement), and “Polyethylene Terephthalate Sheet from Mexico—Petitioners' Response to the Commerce Department's July 22, 2019 File Memorandum,” dated July 23, 2019 (Second AD Mexico Supplement).

In accordance with section 732(b) of the Tariff Act of 1930, as amended (the Act), the petitioners allege that imports of PET sheet from Korea, Mexico, and Oman are being, or are likely to be, sold in the United States at less than fair value (LTFV) within the meaning of section 731 of the Act, and that such imports are materially injuring, or threatening material injury to, the domestic industry producing PET sheet in the United States. Consistent with section 732(b)(1) of the Act, the Petitions are accompanied by information reasonably available to the petitioners supporting their allegations.

Commerce finds that the petitioners are interested parties, as defined in section 771(9)(C) of the Act. Commerce also determines that the petitioners have sufficient industry support with respect to the initiation of the requested AD investigations.⁴

⁴ See the Petitions at 3-4.

Period of Investigation

Because the Petitions were filed on July 9, 2019, pursuant to 19 CFR 351.204(b)(1), the period of investigation (POI) for the Korea, Mexico, and Oman investigations is July 1, 2018 through June 30, 2019.

Scope of the Investigations

The merchandise covered by these investigations is PET sheet from Korea, Mexico, and Oman. For a full description of the scope of these investigations, see the Appendix to this notice.

Scope Comments

During our review of the Petitions, Commerce issued questions to, and received responses from, the petitioners pertaining to the proposed scope to ensure that the scope language in the Petitions would be an accurate reflection of the products for which the domestic industry is seeking relief.⁵ As a result, the scope of the Petitions was modified to clarify the description of the merchandise covered by the Petitions. The description of the merchandise covered by these investigations, as described in the appendix to this notice, reflects these clarifications.

⁵ See General Issues Supplement at 3-6; see also Second General Issues Supplement at 3.

As discussed in the Preamble to Commerce's regulations, we are setting aside a period for interested parties to raise issues regarding product coverage (scope).⁶ Commerce will consider all comments received from interested parties and, if necessary, will consult with interested parties prior to the issuance of the preliminary determinations. If scope comments include factual information,⁷ all such factual information should be limited to public information. To facilitate preparation of its questionnaires, Commerce requests that all interested parties submit scope comments by 5:00 p.m. Eastern Time (ET) on September 9, 2019, which is the next business day after September 8, 2019, 20 calendar days from the signature date of this notice.⁸ Any rebuttal comments, which may include factual information, must be filed by 5:00 p.m. ET on September 19, 2019, which is 10 calendar days from the initial comment deadline.⁹

⁶ See Antidumping Duties; Countervailing Duties, Final Rule, 62 FR 27296, 27323 (May 19, 1997).

⁷ See 19 CFR 351.102(b)(21) (defining “factual information”).

⁸ Because September 8, 2019 falls on a weekend, consistent with 19 CFR 303(b)(1), Commerce will accept documents filed on the next business day.

⁹ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD investigations.

Filing Requirements

All submissions to Commerce must be filed electronically via Enforcement and Compliance's Antidumping Duty and Countervailing Duty Centralized Electronic Service System (ACCESS).¹⁰ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁰ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Comments on Product Characteristics

Commerce is providing interested parties an opportunity to comment on the appropriate physical characteristics of PET sheet to be reported in response to Commerce's AD questionnaires. This information will be used to identify the key physical characteristics of the subject merchandise in order to report the relevant costs of production accurately as well as to develop appropriate product-comparison criteria.

Interested parties may provide any information or comments that they feel are relevant to the development of an accurate list of physical characteristics. Specifically, they may provide comments as to which characteristics are appropriate to use as: (1) General product characteristics, and (2) product comparison criteria. We note that it is not always appropriate to use all product characteristics as product comparison criteria. We base product comparison criteria on meaningful commercial differences among products. In other words, although there may be some physical product characteristics utilized by manufacturers to describe PET sheet, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on September 9, 2019, which is the next business day after September 8, 2019, 20 calendar days from the signature date of this notice.¹¹ Any rebuttal comments must be filed by 5:00 p.m. ET on September 19, 2019. All comments and submissions to Commerce must be filed electronically using ACCESS, as explained above, on the record of each of the AD investigations.

¹¹ Because September 8, 2019 falls on a weekend, consistent with 19 CFR 303(b), Commerce will accept documents filed on the next business day.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹² they do so for different purposes and pursuant to a separate and distinct authority. In addition, Commerce's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the Petitions.¹⁴ Based on our analysis of the information submitted on the record, we have determined that PET sheet, as defined in the scope, constitutes a single domestic like product, and we have analyzed industry support in terms of that domestic like product.¹⁵

¹⁴ See Volume I of the Petitions at 11-13; see also General Issues Supplement at 9-12 and Exhibit GEN-Supp-3.

¹⁵ For a discussion of the domestic like product analysis as applied to these cases and information regarding industry support, see Antidumping Duty Investigation Initiation Checklist: Polyethylene Terephthalate Sheet from the Republic of Korea (Korea AD Initiation Checklist) at Attachment II, Analysis of Industry Support for the Antidumping Duty Petitions Covering Polyethylene Terephthalate Sheet from the Republic of Korea, Mexico, and the Sultanate of Oman (Attachment II); see also Antidumping Duty Investigation Initiation Checklist: Polyethylene Terephthalate Sheet from Mexico (Mexico AD Initiation Checklist) at Attachment II; and Antidumping Duty Investigation Initiation Checklist: Polyethylene Terephthalate Sheet from the Sultanate of Oman (Oman AD Initiation Checklist) at Attachment II.

On July 29, 2019, Commerce extended the initiation deadline by 20 days to poll the domestic industry in accordance with section 732(c)(4)(D) of the Act, because it was not “clear from the Petitions whether the industry support criteria have been met . . .” ¹⁶

¹⁶ See Notice of Extension of the Deadline for Determining the Adequacy of the Antidumping Duty Petitions: Polyethylene Terephthalate Sheet from the Republic of Korea, Mexico, and the Sultanate of Oman, 84 FR 39801 (August 12, 2019); see also Korea AD Initiation Checklist at Attachment II; Mexico AD Initiation Checklist at Attachment II; and Oman AD Initiation Checklist at Attachment II.

On July 30, 2019, we issued polling questionnaires to all known producers of PET sheet (whether sold or internally consumed) identified in the Petitions, submissions from other interested parties, and by Commerce's own research.¹⁷ We requested that each company complete the polling questionnaire and certify its response by the due date specified in the cover letter to the questionnaire.¹⁸

¹⁷ See Memorandum, “Polyethylene Terephthalate Sheet from the Republic of Korea, Mexico, and the Sultanate of Oman: Polling Questionnaire,” dated July 30, 2019; see also Volume I of the Petitions at 1-2 and Exhibits GEN-1 and GEN-2; General Issues Supplement at 6-8 and Exhibit GEN-Supp-1; the petitioners' Letter, “Polyethylene Terephthalate Sheet from Oman—Petitioners' Response to OCTAL's Request for the Department to Refuse to Initiate AD Investigation for Lack of Standing,” dated July 23, 2019 at 5 and Exhibit 1; Letter from OCTAL, “OCTAL's Request for the Department To Refuse To Initiate AD Investigation for Lack of Standing—Polyethylene Terephthalate (PET) Sheet from the Sultanate of Oman,” dated July 18, 2019 at 5 and Exhibit 1; and Letter from OCTAL, “OCTAL's Reply to Petitioners' Comments on Lack of Standing—Polyethylene Terephthalate (PET) Sheet from the Sultanate of Oman,” dated July 25, 2019 at Exhibit 2.

¹⁸ For a detailed discussion of the responses received, see Korea AD Initiation Checklist at Attachment II; see also Mexico AD Initiation Checklist at Attachment II; and Oman AD Initiation Checklist at Attachment II. The polling questionnaire and questionnaire responses are on file electronically via ACCESS.

Our analysis of the data indicates that the domestic producers of PET sheet who support the Petitions account for at least 25 percent of the total production of the domestic like product and more than 50 percent of the production of the domestic like product produced by that portion of the industry expressing support for, or opposition to, the Petitions.¹⁹ Accordingly, Commerce determines that the industry support requirements of section 732(c)(4)(A) have been met.

¹⁹ See Korea AD Initiation Checklist, at Attachment II; see also Mexico AD Initiation Checklist at Attachment II; and Oman AD Initiation Checklist, at Attachment II.

Therefore, Commerce determines that the petitioners filed these Petitions on behalf of the domestic industry in accordance with section 732(b)(1) of the Act because they are interested parties as defined in section 771(9)(C) of the Act and have sufficient industry support.²⁰

²⁰ See Korea AD Initiation Checklist at Attachment II; see also Mexico AD Initiation Checklist at Attachment II; and Oman AD Initiation Checklist at Attachment II.

Allegations and Evidence of Material Injury and Causation

The petitioners allege that the U.S. industry producing the domestic like product is being materially injured, or is threatened with material injury, by reason of the imports of the subject merchandise sold at LTFV. In addition, the petitioners allege that subject imports from Korea, Mexico, and Oman exceed the negligibility threshold provided for under section 771(24)(A) of the Act.²¹

²¹ See Volume I of the Petitions at 13-14 and Exhibit GEN-7.

The petitioners contend that the industry's injured condition is illustrated by a significant and increasing volume of subject imports; reduced market share; lost sales and lost revenue; underselling and price depression or suppression; and a decline in the domestic industry's capacity utilization, shipments, production, and financial performance.²² We have assessed the allegations and supporting evidence regarding material injury, threat of material injury, causation, cumulation, as well as negligibility, and we have determined that these allegations are properly supported by adequate evidence, and meet the statutory requirements for initiation.²³

²² See Volume I of the Petitions at 10, 13-26 and Exhibits GEN-5 and GEN-7 through GEN-12; see also General Issues Supplement at 13 and Exhibits GEN-Supp-1 and GEN-Supp-4.

²³ See Korea AD Initiation Checklist, at Attachment III, Analysis of Allegations and Evidence of Material Injury and Causation for the Antidumping Duty Petitions Covering Polyethylene Terephthalate Sheet from the Republic of Korea, Mexico, and the Sultanate of Oman (Attachment III); see also Mexico AD Initiation Checklist at Attachment III; and Oman AD Initiation Checklist at Attachment III.

Allegations of Sales at LTFV

The following is a description of the allegation of sales at LTFV upon which Commerce based its decision to initiate investigations of PET sheet from Korea, Mexico, and Oman. The sources of data for the deductions and adjustments relating to U.S. price and normal value (NV) are discussed in greater detail in the AD Initiation Checklist for each country.

Export Price

For Korea, Mexico, and Oman, the petitioners based U.S. price on pricing information for PET sheet produced in, and exported from Korea, Mexico, and Oman and offered for sale in the United States.²⁴ Where applicable, the petitioners made deductions from U.S. price for movement and other expenses, consistent with the terms of sale.²⁵

²⁴ See Mexico AD Initiation Checklist; Korea AD Initiation Checklist; and Oman AD Initiation Checklist.

²⁵ Id.

Normal Value

For Mexico, Korea, and Oman, the petitioners based NV on home market prices obtained through market research for PET sheet produced in and sold, or offered for sale, in Mexico, Korea, and Oman within the POI.

Normal Value Based on Constructed Value

As noted above, the petitioners obtained home market prices for Mexico and Oman, but demonstrated that these prices were below the cost of production (COP); therefore, the petitioners also calculated NV based on constructed value (CV), pursuant to section 773(a)(4) of the Act.²⁶ Pursuant to section 773(e) of the Act, CV consists of the cost of manufacturing (COM), selling, general, and administrative (SG&A) expenses, financial expenses, profit, and packing expenses.

²⁶ See Mexico AD Initiation Checklist and Oman AD Initiation Checklist. In accordance with section 773(b)(2) of the Act, for these investigations, Commerce will request information necessary to calculate the CV and cost of production (COP) to determine whether there are reasonable grounds to believe or suspect that sales of the foreign like product have been made at prices that represent less than the COP of the product.

For Mexico and Oman, the petitioners calculated the COM based on domestic producer's input factors of production (FOP) and usage rates for raw materials, labor, and energy.²⁷ The petitioners valued the input FOPs using publicly available data on costs specific to Mexico and Oman during the proposed POI.²⁸ Specifically, the petitioners based the prices for raw material inputs on publicly available import data for Mexico and Oman.²⁹ The petitioners valued labor and energy costs using publicly available sources for Mexico and Oman.³⁰ The petitioners calculated the factory variable overhead for Mexico and Oman based on the experience of domestic producers. The petitioners calculated the factory fixed overhead, SG&A expenses, financial expenses, and profit for Mexico and Oman based on the experience of a producer of comparable merchandise from each of these countries.³¹

²⁷ Id.

²⁸ Id.

²⁹ Id.

³⁰ Id.

³¹ Id.

Fair Value Comparisons

Based on the data provided by the Petitions, there is reason to believe that imports of PET sheet from Korea, Mexico, and Oman are being, or are likely to be, sold in the United States at LTFV. Based on comparisons of export price (EP) to NV in accordance with sections 772 and 773 of the Act, the estimated dumping margins for PET sheet for each of the countries covered by this initiation are as follows: (1) Korea—44.13 and 52.01 percent; ³² (2) Mexico—27.60 to 115.46 percent; ³³ and (3) Oman—75.02 and 114.43 percent.³⁴

³² See Korea AD Initiation Checklist.

³³ See Mexico AD Initiation Checklist.

³⁴ See Oman AD Initiation Checklist.

Initiation of LTFV Investigations

Based upon the examination of the Petitions, and supplemental responses, we find that the Petitions meet the requirements of section 732 of the Act. Therefore, we are initiating AD investigations to determine whether imports of PET sheet from Korea, Mexico, and Oman are being, or are likely to be, sold in the United States at LTFV. In accordance with section 733(b)(1)(A) of the Act and 19 CFR 351.205(b)(1), unless postponed, we will make our preliminary determinations no later than 140 days after the date of this initiation.

Respondent Selection

The petitioners named 17 companies in Korea,³⁵ nine companies in Mexico,³⁶ and one company in Oman,³⁷ as producers/exporters of PET sheet. Following standard practice in AD investigations involving market economy countries, in the event Commerce determines that the number of companies is large and it cannot individually examine each company based upon Commerce's resources, where appropriate, Commerce intends to select respondents in Korea, Mexico, and Oman based on U.S. Customs and Border Protection (CBP) data for U.S. imports under the appropriate Harmonized Tariff Schedule of the United States (HTSUS) numbers listed with the scope in the Appendix, below.³⁸

³⁵ See Volume I of the Petitions at Exhibit GEN-4.

³⁶ Id.

³⁷ Id.

³⁸ See, e.g., Polyester Textured Yarn from India and the People's Republic of China: Initiation of Less-Than-Fair-Value Investigations, 83 FR 58223, 58227 (November 19, 2018).

On August 19, 2019, Commerce released CBP data on imports of PET sheet from Korea, Mexico, and Oman under APO to all parties with access to information protected by APO and indicated that interested parties wishing to comment on the CBP data must do so within three business days of the publication date of the notice of initiation of these investigations.³⁹ We further stated that we will not accept rebuttal comments.

³⁹ See Memoranda, “Polyethylene Terephthalate Sheet from the Republic of Korea: U.S. Customs and Border Protection Data for Respondent Selection Purposes;” “Polyethylene Terephthalate Sheet from Mexico: U.S. Customs and Border Protection Data for Respondent Selection Purposes;” and “Polyethylene Terephthalate Sheet from the Sultanate of Oman: U.S. Customs and Border Protection Data for Respondent Selection Purposes;” dated August 18, 2019.

Distribution of Copies of the Petitions

In accordance with section 732(b)(3)(A) of the Act and 19 CFR 351.202(f), copies of the public version of the Petitions have been provided to the governments of Korea, Mexico, and Oman via ACCESS. To the extent practicable, we will attempt to provide a copy of the public version of the Petitions to each exporter named in the Petitions, as provided under 19 CFR 351.203(c)(2).

ITC Notification

We will notify the ITC of our initiation, as required by section 732(d) of the Act.

Preliminary Determination by the ITC

The ITC will preliminarily determine, within 45 days after the date on which the Petitions were filed, whether there is a reasonable indication that imports of PET sheet from Mexico, Korea, and Oman are materially injuring, or threatening material injury to, a U.S. industry.⁴⁰ A negative ITC determination for any country will result in the investigation being terminated with respect to that country.⁴¹ Otherwise, the investigations will proceed according to statutory and regulatory time limits.

⁴⁰ See section 733(a) of the Act.

⁴¹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴² and, if the information is submitted to rebut, clarify, or correct factual information already on the record, to provide an explanation identifying the information already on the record that the factual information seeks to rebut, clarify, or correct.⁴³ Time limits for the submission of factual information are addressed in 19 CFR 351.301, which provides specific time limits based on the type of factual information being submitted. Interested parties should review the regulations prior to submitting factual information in these investigations.

⁴² See 19 CFR 351.301(b).

⁴³ See 19 CFR 351.301(b)(2).

Particular Market Situation Allegation

Section 504 of the Trade Preferences Extension Act of 2015 amended the Act by adding the concept of particular market situation (PMS) for purposes of CV under section 773(e) of the Act.⁴⁴ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

⁴⁴ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or countervailing duty proceeding must certify to the accuracy and completeness of that information.⁴⁵ Parties must use the certification formats provided in 19 CFR 351.303(g).⁴⁶ Commerce intends to reject factual submissions if the submitting party does not comply with the applicable certification requirements.

⁴⁵ See section 782(b) of the Act.

⁴⁶ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 732(c)(2) and 777(i) of the Act, and 19 CFR 351.203(c).

Dated: August 19, 2019.
Jeffrey I. Kessler,
Assistant Secretary for Enforcement and Compliance.

Appendix

Scope of the Investigations

The merchandise covered by these investigations is raw, pretreated, or primed polyethylene terephthalate sheet, whether extruded or coextruded, in nominal thicknesses of equal to or greater than 7 mil (0.007 inches or 177.8 µm) and not exceeding 45 mil (0.045 inches or 1143 µm) (PET sheet). The scope includes all PET sheet whether made from prime (virgin) inputs or recycled inputs, as well as any blends thereof. The scope includes all PET sheet meeting the above specifications regardless of width, color, surface treatment, coating, lamination, or other surface finish.

The merchandise subject to these investigations is properly classified under statistical reporting number 3920.62.0090 of the Harmonized Tariff Schedule of the United States (HTSUS). Although the HTSUS statistical reporting number is provided for convenience and customs purposes, the written description of the merchandise is dispositive.

[FR Doc. 2019-18370 Filed 8-26-19; 8:45 am]

BILLING CODE 3510-DS-P